DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Proposed Project: National Substance Use and Mental Health Services Survey (N-SUMHSS) (OMB No. 0930-)

Historically SAMHSA collected information on substance use and mental health treatment facilities through two (2) separate data collections: The National Survey of Substance Abuse Treatment Services (N-SSATS; OMB No. 0930-0106) and the National Mental Health Services Survey (N-MHSS; OMB No. 0930-0119). SAMHSA also maintain as part of the N-SSATS data collection approval, an inventory of treatment facility, named the Inventory of Behavioral Health Services (I-BHS) (N-SSATS; OMB No. 0930-0106).

Some of the content and questions in the N-SSATS and N-MHSS data collection surveys are similar and represented an additional burden to approximately 14 percent of facilities that received both surveys. SAMHSA recognizes the need to have data collections that are less burdensome to these facilities that provide these services. To help reduce respondent burden, increase efficiency, and better manage resources, SAMHSA goal is to combine these two surveys into the National Substance Use and Mental Health Services Survey (N-SUMHSS).

The N-SUMHSS, will include the facility characteristics and services questions currently asked in the N-SSATS and the N-MHSS. The survey will also collect, on an annual basis, client counts on those individuals receiving services at these facilities. Historically, client count information was collected every other year; however there is an increasing need to collect and maintain data on current and accurate numbers of clients in treatment at the local level for community to assess capacity and estimate resource requirements. This information on substance use and mental health services has assisted with communities to better respond to life changing events, (i.e. hurricane) and plan for service demands in the event of a natural disaster, (i.e. earthquakes).

SAMHSA requests is for approval of the N-SUMHSS data collection and the extension of the I-BHS data collection. The N-SUMHSS survey will provide data on the numbers and types of patients treated and the characteristics of facilities providing substance use and mental health treatment services. The extension of the duration of the I-BHS survey, which is current authorized as part of N-SSATS (OMB No. 0930-0106), aligns it to the same period as the N-SUMHSS. These surveys are conducted under the authority of Section 505 of the Public Health Service Act (42 U.S.C. 290aa-4) to meet the specific mandates for annual information about public and private substance use/mental health treatment providers and the clients they serve.

This request includes:

• N-SUMHSS, an annual census of substance use and mental health treatment facilities which collects descriptive data on the location, scope of services provided, and operational characteristics of all known substance use and mental health treatment facilities in the United States and jurisdictions, and on utilization of services by means of a single-day count of clients in treatment; and

• I-BHS data collection activities associated with updating the inventory of both mental health treatment facilities and substance use treatment facilities.

The information in N-SUMHSS and I-BHS is needed to assess the nature and extent of these resources, to identify gaps in services, and to provide a database for treatment referrals.

The request for OMB approval will include a request to conduct the N-SUMHSS survey which includes facility characteristics and services and one-day client counts and to update the I-BHS facility listing on a continuous basis in 2021, 2022 and 2023. Also included in this request is the Between Cycle N-SUMHSS data collection (N-SUMHSS BC), to be conducted between annual surveys to collect information on new facilities for inclusion in the Treatment Locator. N-SUMHSS BC use is an abbreviated N-SUMHSS survey questionnaire.

The estimated annual burden for the I-BHS and BHSIS activities is as follows:

Type of respondent and activity | Number of respondents | Responses per respondent | Total responses | Hours per response | Total burden hours | Wage rate | Total hour cost
States:
I-BHS Online ¹ | 56 | 75 | 4,200 | 0.08 | 336 | $23 | $7,728
State Subtotal | 56 |  | 4,200 |  | 336 |  | 7,728
Facilities:
I-BHS application ² | 800 | 1 | 800 | 0.08 | 64 | 19.40 | 1,242
Augmentation screener | 1,300 | 1 | 1,300 | 0.08 | 104 | 19.40 | 2,018
N-SUMHSS questionnaire (either SU or MH) | 32,000 | 1 | 32,000 | 0.67 | 21,333 | 47.95 | 1,022,917
N-SUMHSS (both SU and MH) | 5,000 | 1 | 5,000 | 1.17 | 5,833 | 47.95 | 279,692
N-SUMHSS BC | 1,000 | 1 | 1,000 | 0.58 | 580 | 47.95 | 27,811
Facility Subtotal | 40,100 |  | 40,100 |  | 27,914 |  | 1,333,680
Total | 40,156 |  | 44,300 |  | 28,250 |  | 1,341,408
¹ States use the I-BHS Online system to submit information on newly licensed/approved facilities and on changes in facility name, address, status, etc.
² New facilities complete and submit the online I-BHS application form in order to get listed on the Inventory.

Written comments and recommendations for the proposed information collection should be sent within 30 days of publication of this notice to www.reginfo.gov/public/do/PRAMain. Find this particular information collection by selecting “Currently under 30-day Review—Open for Public Comments” or by using the search function.

Carlos Graham,
Social Science Analyst.

[FR Doc. 2020-18220 Filed 8-19-20; 8:45 am]

BILLING CODE 4162-20-P